DEPARTMENT OF AGRICULTURE

Central Idaho Resource Advisory Committee Salmon-Challis National Forest Butte, Custer, and Lemhi Counties, ID

AGENCY: Forest Service, USDA Forest Service.

ACTION: Notice of meeting of the Resource Advisory Committee.

SUMMARY: The Central Idaho Resource Advisory Committee will meet at 2:00 p.m., June 6, 2002 at the Challis Ranger District Office, Highway 93 North, Challis, Idaho. The 15-member committee will evaluate proposed resource projects for recommendation to Salmon-Challis National Forest for the year 2002. The meeting is open to the public and time will be scheduled for public comments.

The Central Idaho Resource Advisory Committee was established by the Secretary of Agriculture under Title II of the Secure Rural Schools and Community Self-Determination Act of 2000 to work collaboratively with the Salmon-Challis National Forest to provide advice and recommendations consistent with the purposes of the Act.

Pam Mihelich,
Administrative Officer, Salmon-Challis National Forest, Designated Federal Official.

[FR Doc. 02-13554 Filed 5-30-02; 8:45 am]

BILLING CODE 3410-11-M